Title 3—

The President

Decision of October 6, 2025

Decision of the President and Statement of Reasons

I approve the appeal made by the applicant Alaska Industrial Development and Export Authority (AIDEA) on June 6, 2025, under section 1106(a) of the Alaska National Interest Lands Conservation Act (ANILCA) and approve AIDEA's 2016 revised consolidated application for a transportation system known as the Ambler Road Project for the reasons explained in the following Statement of Reasons. In making my decision, I have considered all relevant information as necessary and appropriate in accordance with section 1106(a)(2) of the ANILCA.

Accordingly, I direct each Federal agency concerned to promptly issue such authorizations as are necessary with respect to the establishment of the Ambler Road Project. The details of the manner in which these authorizations must be issued are addressed in the Statement of Reasons.

THE WHITE HOUSE,

October 6, 2025.

Billing code 3395-F4-P

[FR Doc. 2025-19510

Filed 10-7-25; 2:00 pm]

Billing code 4310-10-C